DEPARTMENT OF THE INTERIOR

Bureau of Land Management

[ES-960-1430-ET; MIES-019212]

Public Land Order No. 7606; Revocation of Executive Order Dated December 18, 1849; Michigan

AGENCY: Bureau of Land Management, Interior.

ACTION: Public Land Order.

SUMMARY: This order revokes in its entirety, an Executive Order which reserved 92.4 acres of public land for the Manitou Island Light Station. The reservation is no longer needed by the United States Coast Guard for lighthouse purposes.

DATES: Effective Date: June 17, 2004.

FOR FURTHER INFORMATION CONTACT: Ed Ruda, BLM Eastern States Office, 7450 Boston Boulevard, Springfield, Virginia 22153, 703-440-1663.

SUPPLEMENTARY INFORMATION: This is a record-clearing action only. The land has been determined to be unsuitable for return to public domain status and has been reported as excess property to the General Services Administration for disposal pursuant to the National Historic Lighthouse Preservation Act of 2000.

Order

By virtue of the authority vested in the Secretary of the Interior by Section 204 of the Federal Land Policy and Management Act of 1976, 43 U.S.C. 1714 (2000), it is ordered as follows:

The Executive Order dated December 18, 1849, which reserved the following described public land for lighthouse purposes, is hereby revoked in its entirety:

Michigan Meridian

T. 58 N., R. 26 W.,

sec. 15 (fractional).

The area described contains 92.40 acres in Keweenaw County as shown by the May 8, 1846 survey plat.

Dated: May 17, 2004.
Rebecca W. Watson,
Assistant Secretary—Land and Minerals Management.

[FR Doc. 04-13667 Filed 6-16-04; 8:45 am]

BILLING CODE 4310-GJ-P